DEPARTMENT OF AGRICULTURE

Grain Inspection, Packers and Stockyards Administration

Proposed Posting of Stockyards

The Grain Inspection, Packers and Stockyards Administration, United States Department of Agriculture, has information that the livestock markets named below are stockyards as defined in section 302 of the Packers and Stockyards Act (7 U.S.C. 202), and should be made subject to the provisions of the Packers and Stockyards Act, 1921, as amended (7 U.S.C. 181 et seq.).

MS-174 | Solomon's Horse Auction; Belmont, Mississippi
OK-212 | Perkins Livestock Commission Co., LLC; Perkins, Oklahoma

Pursuant to the authority under section 302 of the Packers and Stockyards Act, notice is hereby given that it is proposed to designate the stockyards named above as posted stockyards subject to the provisions of said Act.

Any person who wishes to submit written data, views or arguments concerning the proposed designation may do so by filing them with the Director, Office of Policy/Litigation Support, Grain Inspection, Packers and Stockyards Administration, Room 3418-South Building, U.S. Department of Agriculture, Washington, DC 20250, by September 28, 2000.

All written submissions made pursuant to this notice will be made available for public inspection in the office of the Director of the Office of Policy/Litigation Support during normal business hours.

Done at Washington, DC this 31st day of August 2000.
Michael J. Caughlin, Jr.,
Director, Office of Policy/Litigation Support, Packers and Stockyards Programs.

[FR Doc. 00-23406 Filed 9-12-00; 8:45 am]

BILLING CODE 3410-EN-P